DEPARTMENT OF EDUCATION

National Institute on Disability and Rehabilitation Research—Disability and Rehabilitation Research Projects and Centers Program—Disability Rehabilitation Research Projects (DRRPs)

AGENCY: Office of Special Education and Rehabilitative Services, Department of Education.

ACTION: Notice of final priorities for DRRPs.

SUMMARY: The Assistant Secretary for Special Education and Rehabilitative Services announces two priorities for the Disability and Rehabilitation Research Projects and Centers Program administered by the National Institute on Disability and Rehabilitation Research (NIDRR). The Assistant Secretary may use one or more of these priorities for competitions in fiscal year (FY) 2009 and later years. We take this action to focus research attention on areas of national need. We intend these priorities to improve rehabilitation services and outcomes for individuals with disabilities.

DATES: Effective Date: These priorities are effective January 23, 2009.

FOR FURTHER INFORMATION CONTACT: Donna Nangle, U.S. Department of Education, 400 Maryland Avenue, SW., room 6029, Potomac Center Plaza (PCP), Washington, DC 20202-2700. Telephone: (202) 245-7462 or by e-mail: donna.nangle@ed.gov.

If you use a telecommunications device for the deaf (TDD), call the Federal Relay Service (FRS) at 1-800-877-8339.

Individuals with disabilities can obtain this document in an accessible format (e.g., braille, large print, audiotape, or computer diskette) on request to the contact person listed under FOR FURTHER INFORMATION CONTACT.

SUPPLEMENTARY INFORMATION:

Disability and Rehabilitation Research Projects (DRRP) Program

The purpose of the DRRP Program is to improve the effectiveness of services authorized under the Rehabilitation Act of 1973, as amended, by developing methods, procedures, and rehabilitation technologies that advance a wide range of independent living and employment outcomes for individuals with disabilities, especially individuals with the most severe disabilities. DRRPs carry out one or more of the following types of activities, as specified and defined in 34 CFR 350.13 through 350.19: Research, development, demonstration, training, dissemination, utilization, and technical assistance.

An applicant for assistance under this program must demonstrate in its application how it will address, in whole or in part, the needs of individuals with disabilities from minority backgrounds (34 CFR 350.40(a)). The approaches an applicant may take to meet this requirement are found in 34 CFR 350.40(b). In addition, NIDRR intends to require all DRRP applicants to meet the requirements of the General Disability and Rehabilitation Research Projects (DRRP) Requirements priority that it published in a notice of final priorities in the Federal Register on April 28, 2006 (71 FR 25472).

Additional information on the DRRP Program can be found at: http://www.ed.gov/rschstat/research/pubs/res-program.html#DRRP.

We published a notice of proposed priorities (NPP) for NIDRR's Disability and Rehabilitation Research Projects and Centers Program in the Federal Register on May 30, 2008 (73 FR 31078). The NPP included background statements that described our rationale for the two priorities proposed in that notice.

There are differences between the NPP and this notice of final priorities (NFP) as discussed in the following section.

In this NFP, we are announcing two final priorities for DRRPs. These final priorities are:

• Priority 1—Research and Technical Assistance Center on Vocational Rehabilitation Program Management.

• Priority 2—Center on the Effective Delivery of Rehabilitation Technology by State Vocational Rehabilitation Agencies to Improve Employment Outcomes.

Analysis of Comments and Changes

In response to our invitation in the NPP, one party submitted comments on the proposed priorities for the DRRPs. An analysis of the comments and of any changes in the priorities since publication of the NPP follows.

Generally, we do not address technical and other minor changes, or suggested changes the law does not authorize us to make under the applicable statutory authority. In addition, we do not address general comments that raised concerns not directly related to the proposed priorities.

Priority 1—Research and Technical Assistance Center on Vocational Rehabilitation Program Management

Comment: One commenter recommended that this Center be required to have an advisory panel.

Discussion: We agree and will make the change requested by the commenter.

Changes: We have added language requiring the Center to establish an advisory committee comprised of individuals who are knowledgeable about VR program management practices including researchers, State VR agency representatives, VR providers, State Rehabilitation Council representatives, employers, individuals with disabilities, and parents of individuals with disabilities. Further we have added language stating the advisory committee must be designed to provide guidance to the Center on its research and technical assistance activities.

Comment: One commenter recommended that the Center be required to provide State VR agencies with information about costs associated with implementing new State vocational rehabilitation (VR) agency program management practices or policies that the Center develops.

Discussion: We agree that cost information could be critical, for example, in helping States make decisions regarding whether or how to implement the Center's management model or its components, and that cost effectiveness should be considered in identifying effective practices and in developing the management model. However, we note that the cost of implementing any particular policy or practice is likely to vary substantially from one State VR agency to another because of differences among the State VR agencies (e.g., in the number of personnel, type of training needed, size and type of client population, size of agency) and the contexts in which each State agency operates (e.g., location of agency in State government, whether the State is primarily urban or rural).

Changes: We have added language requiring that the Center consider cost-effectiveness in identifying effective practices and in developing the management model and include information, to the extent possible, on the cost of the model and its components in the technical assistance materials to be developed for the use of State VR agencies.

Comment: One commenter recommended that the Center be required to establish criteria for identifying best VR program management practices.

Discussion: NIDRR agrees with this suggestion and will require that applicants propose, in their applications, the specific criteria they will use to identify effective VR program management practices.

Changes: We have modified paragraph (a) of the priority to require applicants to propose, in their applications, the specific criteria they will use to identify effective VR program management practices.

Comment: One commenter noted that each State VR agency faces unique budgetary and service delivery challenges. This commenter noted that the Center must take into account these program differences and establish criteria for selecting partner agencies that are designed to ensure a representative cross-section of VR programs.

Discussion: The requirement that the Center collaborate with 5 to 10 State VR agencies will help to ensure that VR program management models developed by the Center are responsive to the needs of programs with widely varying budgets and unique service delivery contexts. However, in the interest of maximizing the utility and relevance of the VR Program Management Model to be developed by the Center (under paragraph (b) of the priority), we agree that the States selected must be reasonably diverse.

Changes: We have added language requiring that the methods and criteria for selecting Partner State VR Agencies provide for diversity, to the extent possible, in the size, location, and type of State agency.

Comment: One commenter recommended that the 5 to 10 State VR agencies that serve as partners in the Center's activities be compensated by the Center.

Discussion: NIDRR allows applicants to determine how they will ensure the active collaboration of partner entities. Nothing in this priority would prevent an applicant from proposing to compensate the 5 to 10 Partner State VR Agencies. NIDRR will rely on the peer review process to evaluate the quality, feasibility, and costs of a proposed Center's collaborative efforts.

Changes: None.

Comment: One commenter recommended that the Center should coordinate with the Council of State Administrators of Vocational Rehabilitation (CSAVR) when selecting Partner State VR Agencies. This commenter also recommended that the Center work with CSAVR on an ongoing basis.

Discussion: The priority requires that applicants describe the methods and criteria they will use to recruit and select Partner State VR Agencies for collaboration and partnership. Applicants are free to coordinate with CSAVR as part of this effort to select and recruit State VR partners. However, NIDRR has no basis for requiring that all applicants propose such a partnership. Similarly, applicants are free to propose ongoing collaboration and partnership with CSAVR, though NIDRR has no basis for requiring all applicants to do so. NIDRR will rely on the peer review process to determine the quality of the selection process for Partner State VR Agencies.

Changes: None.

Comment: One commenter recommended that NIDRR impose minimum qualifications for Center applicants, including knowledge of people with disabilities and employment of people with disabilities; support letters from State VR agencies; a track record of effective service delivery; a history of providing quality training and technical assistance to States; and expertise in evaluating State-level programs.

Discussion: NIDRR recognizes the importance of the qualifications suggested by the commenter. However, NIDRR has no regulatory or statutory basis for requiring that applicants meet these specific minimum qualifications. NIDRR utilizes expert peer review panels, which apply established selection criteria to assess the qualifications and expertise of proposed project personnel. NIDRR utilizes peer review criteria from 34 CFR 350.54(n) to rate the relevant expertise of proposed project staff. For example, one criterion requires peer reviewers to rate the extent to which key personnel and other key staff have appropriate training and experience in disciplines required to conduct all proposed activities (34 CFR 350.54(n)(3)(i)). Other criteria require peer reviewers to rate the extent to which the key personnel are knowledgeable about the methodology and literature of pertinent subject areas (34 CFR 350.54(n)(3)(iii)) and the extent to which key personnel have up-to-date knowledge from research or effective practice in the subject area covered in the priority (34 CFR 350.54(n)(3)(v)). These criteria are designed to ensure that applicants have the capacity to carry out the project.

Changes: None.

Priority 2—Center on the Effective Delivery of Rehabilitation Technology by State Vocational Rehabilitation Agencies to Improve Employment Outcomes

Comment: One commenter recommended that State Assistive Technology (AT) programs should be on the Center's advisory committee and that the Center should work closely with such programs.

Discussion: NIDRR agrees with the commenter's suggestion and has changed the priority accordingly.

Changes: We have modified the priority to require that the Center include a representative of State AT programs on its advisory committee. We have also changed the priority to require that the Center consult with its NIDRR Project Officer to coordinate its efforts with State AT programs.

Comment: One commenter recommended that the Center be required to provide information about the costs associated with implementing new practices or policies that support the effective use of rehabilitation technology that the Center identifies.

Discussion: We agree that cost information could be critical, for example, in helping States make decisions regarding whether or how to implement any given policy or practice identified by the Center, and that cost effectiveness should be a consideration in identifying effective practices. However, we note that the cost of implementing any particular policy or practice is likely to vary substantially from one State VR agency to another because of differences among State VR agencies (e.g., in the number of personnel, type of training needed, size and type of client population, size of agency) and the context in which each State agency operates (e.g., location of agency in State government, whether the State is primarily urban or rural).

Changes: We have added language requiring that the Center consider cost-effectiveness in identifying effective practices and to include information on the costs of practices, to the extent possible, in exemplars, tools, and guidance developed for the use of State VR agencies.

Note: This notice does not solicit applications. In any year in which we choose to use these priorities, we invite applications through a notice in the Federal Register. When inviting applications we designate the priorities as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

This NFP is in concert with President George W. Bush's New Freedom Initiative (NFI) and NIDRR's Final Long-Range Plan for FY 2005-2009 (Plan). Background information on the NFI can be accessed on the Internet at the following site: http://www.whitehouse.gov/infocus/newfreedom

The Plan, which was published in the Federal Register on February 15, 2006 (71 FR 8165), can be accessed on the Internet at the following site: http://www.ed.gov/about/offices/list/osers/nidrr/policy.html

Through the implementation of the NFI and the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Priority 1—Research and Technical Assistance Center on Vocational Rehabilitation Program Management

The Assistant Secretary for Special Education and Rehabilitative Services announces a priority to establish, under the Disability and Rehabilitation Research Program (DRRP), a Research and Technical Assistance Center on Vocational Rehabilitation Program Management (Center). The Center must conduct research to develop a model of vocational rehabilitation (VR) program management, which must include a focus on quality assurance, strategic planning, and human resource management. The Center must then develop and test the model, and use it as the basis for training and technical assistance (TA) to improve management practices within individual State VR agencies.

Under this priority, the Center must be designed to contribute to the following outcomes:

(a) New knowledge of effective VR program management. The Center must contribute to this outcome by identifying effective VR program management practices, including at a minimum, practices in the areas of quality assurance, strategic planning, and human resource management. (Applicants must propose, in their applications, the specific criteria they will use to identify effective VR program management practices, including consideration of their cost effectiveness.) The Center's work in this area must be designed to result in knowledge that could be used to assist State VR agencies in the following:

Quality Assurance

• Develop methodologies to ensure that performance data are accurate and analyses of the data are sound;

• Implement effective quality assurance processes;

• Implement effective fiscal planning and accountability mechanisms;

Strategic Planning

• Develop agency goals and strategies, and evaluate progress made toward achieving these goals;

• Develop key performance measures and use performance data for program improvement;

Human Resource Management

• Implement effective employee training, staff development, and career development; and

• Implement effective leadership development and succession planning.

(b) A new evidence-based model of effective VR program management (VR Program Management Model). The Center must contribute to this outcome by partnering with approximately 5 to 10 State VR agencies to develop a VR Program Management Model that, to the maximum extent possible, is informed by evidence of the effectiveness of specific management practices, including cost effectiveness. Applicants must describe in their applications the methods and criteria they will use to recruit and select State VR agencies with which they will partner (Partner State VR Agencies) for this activity. At a minimum, such methods and criteria must provide for diversity, to the extent possible, in the size, location, and type of State VR agencies to be selected. NIDRR will review and approve the final selection of Partner State VR Agencies. The Center must work with the Partner State VR Agencies to identify, describe, and document the components of the VR Program Management Model, which must include, at a minimum, quality assurance, strategic planning, and human resource management components.

(c) Enhanced VR program management through implementation of the VR Program Management Model. The Center must contribute to this outcome by developing exemplars, tools, and guidance that other State VR agencies (i.e., State VR agencies that are not Partner State VR Agencies) can use to implement the VR Program Management Model within their unique contexts, including information on the costs of implementing the management model and its components, to the extent possible. The Center must provide training and TA to individual State VR agencies to facilitate the implementation of some or all of the components of the VR Program Management Model, depending on the unique needs of the agency's VR program.

In addition, the Center must—

• Establish an advisory committee comprised of individuals who are knowledgeable about VR program management practices including researchers, State VR agency representatives, VR providers, State Rehabilitation Council representatives, employers, individuals with disabilities, and parents of individuals with disabilities. This advisory committee must be designed to provide guidance to the Center on its research and TA activities;

• Disseminate TA materials that it has developed on program management topics under paragraph (c) of this priority to other projects that provide TA to State VR agencies (e.g., the Technical Assistance and Continuing Education (TACE) projects that the Rehabilitation Services Administration (RSA) funded in FY 2008 and FY 2009 under title III of the Rehabilitation Act of 1973, as amended (Act);

• Coordinate TA with all entities that comprise the national VR TA network, including: The TACE projects; the IL-Net Training and Technical Assistance projects for centers for independent living and statewide independent living councils funded by RSA under title VII of the Rehabilitation Act of 1973, as amended (Act); the national VR TA center that RSA funded in FY 2008 under section 12 of the Act; and NIDRR's Rehabilitation Research and Training Centers focused on employment. Coordination is intended to ensure consistency of TA provided nationally on VR program management; and

• Each year, after year one of the project period, plan to present findings at a three-day national conference of State VR administrators to be held in Washington, DC.

Priority 2—Center on the Effective Delivery of Rehabilitation Technology by State Vocational Rehabilitation Agencies To Improve Employment Outcomes

The Assistant Secretary for Special Education and Rehabilitative Services announces a priority for a Disability and Rehabilitation Research Project (DRRP) to serve as the Center on the Effective Delivery of Rehabilitation Technology by State Vocational Rehabilitation Agencies to Improve Employment Outcomes (Center). The Center must conduct research to identify the policies, procedures, and practices that result in the effective delivery of rehabilitation technology (RT), as defined in 34 CFR 361.5(b)(45), by employment and training programs to assist individuals with disabilities to achieve employment outcomes, as defined in 34 CFR 361.5(b)(16). Under this priority, the Center must be designed to contribute to the following outcomes:

(a) New knowledge regarding models of effective RT service delivery. The Center must contribute to this outcome by identifying existing employment and training programs, including programs administered by State VR agencies, that effectively deliver RT services to assist individuals with disabilities achieve employment outcomes. Applicants must describe in their applications the methods and criteria they will use to identify and select the model employment and training programs. NIDRR will review and approve the final selection of the employment and training programs. The Center must work with the selected programs to identify, describe, and document the policies, procedures, and practices that result in effective RT service delivery, including information on the costs of implementing such policies, procedures, and practices, to the extent possible.

(b) New knowledge of the systemic supports necessary for the effective delivery of RT services. The Center must contribute to this outcome by conducting research to identify the policies and practices of employment and training programs, including but not limited to those operated by State VR agencies, that support the effective use of RT to help individuals with disabilities achieve and maintain employment outcomes. The Center's work in this area must be designed to result in knowledge that assists employment and training programs to—

• Identify and assess the quality and effectiveness, including cost-effectiveness, of their policies and practices related to the delivery of RT services;

• Change existing policies or develop new policies that are specifically designed to improve the delivery of RT services;

• Implement effective strategies to improve practices to support the delivery of RT services; and

• Develop and implement methodologies to collect data on the impact of RT services on employment outcomes.

(c) Enhanced knowledge of effective RT service delivery among administrators of State VR agencies and other employment and training programs for individuals with disabilities. The Center must contribute to this outcome by using the knowledge gained from the activities described in paragraphs (a) and (b) of this priority to develop exemplars, tools, and guidance that State VR agencies can use to change existing policies or develop new policies and practices within their unique contexts, including information on the costs of implementing such policies and practices, to the extent possible. The Center must disseminate these materials to State VR agencies and other employment and training programs for individuals with disabilities.

In addition, the Center must—

• In consultation with its NIDRR Project Officer, coordinate the Center's dissemination and outreach efforts with relevant programs. These programs include the Research and Technical Assistance Center on Vocational Rehabilitation Program Management that NIDRR intends to fund in FY 2009; the regionally based Technical Assistance and Continuing Education (TACE) projects that the Rehabilitation Services Administration (RSA) funded in FY 2008 and FY 2009 under title III of the Rehabilitation Act of 1973, as amended (Act); the IL-Net Training and Technical Assistance projects for centers for independent living and statewide independent living councils funded by RSA under title VII of the Act; the national VR TA center that RSA funded in FY 2008 under section 12 of the Act; NIDRR's Rehabilitation Research and Training Centers (RRTCs) focused on employment; the NIDRR network of Knowledge Translation grantees; the Department's Office of Special Education Programs' Technical Assistance and Dissemination Network and Technical Assistance Communities of Practice; State Assistive Technology (AT) programs; the Department's Office of Vocational and Adult Education's National Research Center for Career and Technical Education; and programs sponsored through the U.S. Department of Labor's Office of Disability Employment Policy. The Center must coordinate with these entities, as appropriate, to disseminate the exemplars, tools, guidance, and knowledge developed through activities conducted under paragraphs (a), (b), and (c) of this priority to State VR agencies, employers, individuals with disabilities, and other entities that serve or employ individuals with disabilities;

• Share the exemplars, tools, guidance, and knowledge developed through activities conducted under paragraphs (a), (b), and (c) of this priority with appropriate RSA and NIDRR research and dissemination centers, including the National Center for the Dissemination of Disability Research, the Research Utilization Support and Help Project, and the Center for International Rehabilitation Research Information and Exchange; and

• Establish an advisory committee comprised of individuals who are knowledgeable about RT including researchers, State VR agency representatives, VR providers, State AT program representatives, employers, transition planners, secondary and postsecondary educators, individuals with disabilities, and parents of individuals with disabilities. This advisory committee must be designed to provide guidance to the Center on its research and TA activities.

• Each year after year one of the project period, plan to present findings at a three-day national conference of State VR administrators to be held in Washington, DC.

Executive Order 12866

This NFP has been reviewed in accordance with Executive Order 12866. Under the terms of the order, we have assessed the potential costs and benefits of this regulatory action.

The potential costs associated with this NFP are those resulting from statutory requirements and those we have determined as necessary for administering this program effectively and efficiently.

In assessing the potential costs and benefits—both quantitative and qualitative—of this NFP, we have determined that the benefits of the final priorities justify the costs.

Summary of potential costs and benefits:

The benefits of the Disability and Rehabilitation Research Projects and Centers Program have been well established over the years in that similar projects have been completed successfully. These final priorities will generate new knowledge and technologies through research, development, dissemination, utilization, and technical assistance projects.

Another benefit of these final priorities is that the establishment of new DRRPs will support the President's NFI and will improve the lives of individuals with disabilities. The new DRRPs will generate, disseminate, and promote the use of new information that will improve the options for individuals with disabilities to perform regular activities in the community.

Applicable Program Regulations: 34 CFR part 350.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html

(Catalog of Federal Domestic Assistance Number 84.133A Disability Rehabilitation Research Projects)

Program Authority: 29 U.S.C. 762(g) and 764(a).

Dated: December 19, 2008.
Tracy R. Justesen,
Assistant Secretary for Special Education and Rehabilitative Services.

[FR Doc. E8-30702 Filed 12-23-08; 8:45 am]

BILLING CODE 4000-01-P